DEPARTMENT OF TRANSPORTATION

Federal Motor Carrier Safety Administration

[Docket No. FMCSA-2007-27186]

Medical Review Board Meeting, Public Listening Session

AGENCY: Federal Motor Carrier Safety Administration (FMCSA), United States Department of Transportation (DOT).

ACTION: Notice of Medical Review Board (MRB) Meeting and Public Listening Session.

SUMMARY: FMCSA announces a meeting and public listening session of the Agency's MRB. The MRB members will continue deliberations about current FMCSA medical standards, as well as consider recommendations for new science-based standards and guidelines to ensure that the physical condition of drivers is adequate to enable them to safely operate commercial motor vehicles (CMVs) in interstate commerce. In accordance with the Federal Advisory Committee Act (FACA), the MRB meeting is open to the public.

DATES: The MRB meeting will be held from 9 a.m. to 3:30 p.m. on April 25, 2007. The public may offer oral comments and ask questions of the MRB members relative to the medical and scientific issues discussed from 1:30 p.m. to 3:30 p.m.

ADDRESSES: The MRB meeting will take place at the Crown Plaza Hotel, 1375 South Broadway, Lexington, KY 40504-2703. You may submit comments identified by DOT Docket Management System (DMS) Docket Number FMCSA-2007-27186 using any of the following methods:

• Web Site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the U.S. Department of Transportation's complete Privacy Act Statement in the Federal Register published on April 11, 2000 (65 FR 19477; Apr. 11, 2000). This information is also available at http://dms.dot.gov.

FOR FURTHER INFORMATION CONTACT: Dr. Mary D. Gunnels, Chief, Physical Qualifications Division, 202-366-4001, FMCSA, Department of Transportation, 400 Seventh Street, SW., Washington, DC 20590-0001. Office hours are from 8:30 a.m. to 5 p.m. Monday through Friday, except Federal holidays.

Information on Services for Individuals With Disabilities

For information on facilities or services for individuals with disabilities or to request special assistance at the meeting, contact Kaye Kirby at 202-366-4001.

SUPPLEMENTARY INFORMATION: The preliminary agenda for the MRB meeting:

0800-0900 Registration (Includes Request for Comments).

0900-0905 Call to Order, Agenda Review.

0905-0925 MRB Actions, (Diabetes & Schedule II Medications).

0925-0945 Cardiovascular Disease.

0945-1015 Cardiovascular Disease Expert Panel Recommendations.

1015-1100 MRB questions on Cardiovascular Disease.

1100-1130 Deliberations on Evidence Report & Panel Comments.

1130-1200 MRB Recommendations.

1200-1330 Lunch Break (Attendees are responsible for their lunch).

1330-1530 Public Comment.

*Breaks will be announced on meeting day and may be adjusted according to schedule changes, other listening session requirements.

Medical Review Board Meeting

The U.S. Secretary of Transportation announced on March 7, 2006, the five medical experts who serve on FMCSA's MRB. Section 4116 of the Safe, Accountable, Flexible, Efficient Transportation Equity Act: A Legacy for Users (SAFETEA-LU, Pub. L. 109-59) requires the Secretary of Transportation with the advice of the MRB to “establish, review, and revise medical standards for operators of CMVs that will ensure that the physical condition of operators is adequate to enable them to operate the vehicles safely.” FMCSA is considering updates to the physical qualification regulations of CMV drivers, and the MRB will provide the necessary science-based guidance to establish realistic and responsible medical standards.

The MRB operates in accordance with FACA as announced in the Federal Register (70 FR 57642, October 3, 2005). The MRB is charged initially with the review of all current FMCSA medical standards (49 CFR 391.41), as well as proposing new science-based standards and guidelines to ensure that drivers operating CMVs in interstate commerce, as defined in CFR 390.5, are physically capable of doing so.

Meeting Participation

Attendance is open to the interested public, including medical examiners, motor carriers, drivers, and representatives of medical and scientific associations. The public can ask relevant questions of the MRB and comment about the information presented to the MRB during the listening session of the program, which will be held 1:30 p.m.-3:30 p.m. Written comments for the MRB meeting will also be accepted beginning on March 27, 2007, and continuing until May 17, 2007, and should include the docket number that is listed in the ADDRESSES section. During the MRB meeting, oral comments may be limited depending on how many persons wish to comment; and will be accepted on a first come, first serve basis as requestors register at the meeting. The comments must directly address relevant medical and scientific issues on the MRB meeting agenda. For more information, view the following Web site: http://www.mrb.fmcsa.dot.gov.

Issued on: March 6, 2007.
John H. Hill,
Administrator.

[FR Doc. E7-4468 Filed 3-12-07; 8:45 am]

BILLING CODE 4910-EX-P